FEDERAL COMMUNICATIONS COMMISSION

Sunshine Act Meeting; Open Commission Meeting; Wednesday, April 23, 2014

Date: April 16, 2014.

The Federal Communications Commission will hold an Open Meeting on the subjects listed below on Wednesday, April 23, 2014. The meeting is scheduled to commence at 10:30 a.m. in Room TW-C305, at 445 12th Street SW., Washington, DC.

Item No. | Bureau | Subject
1 | WIRELINE COMPETITION | TITLE: Connect America Fund (WC Docket No. 1090); Universal Service Reform—Mobility Fund (WT Docket No. 10-208); ETC Annual Reports and Certifications (WC Docket No. 14-58); Developing a Unified Intercarrier Compensation Regime (CC Docket No. 01-92); Establishing Just and Reasonable Rates for Local Exchange Carriers (WC Docket No. 07-135).
|  | SUMMARY: The Commission will consider a Report and Order, Declaratory Ruling, Order, Memorandum Opinion and Order, and Seventh Order on Reconsideration taking significant steps to continue the implementation of the landmark reforms adopted in the 2011 USF/ICC Transformation Order to modernize universal service for the 21st century. An accompanying Further Notice of Proposed Rulemaking proposes measures to update and further implement the framework adopted by the Commission in 2011.
2 | WIRELESS TELECOMMUNICATIONS AND OFFICE OF ENGINEERING & TECHNOLOGY | TITLE: Amendment of the Commission's Rules with Regard to Commercial Operations in the 3550-3650 MHz Band (GN Docket No.12-354). SUMMARY: The Commission will consider a Further Notice of Proposed Rulemaking that would implement an innovative three-tier spectrum sharing approach to make up to 150 megahertz of spectrum available for wireless broadband use in the 3550-3700 MHz band.

* * * * *

Consent Agenda

The Commission will consider the following subjects listed below as consent agenda and these items will not be presented individually:

Item No. | Bureau | Subject
1 | MEDIA | TITLE: Application for a Construction Permit For a New FM Broadcast Station at Aguila, Arizona.
|  | SUMMARY: The Commission will consider a Memorandum Opinion and Order concerning an Application for Review filed by Entravision Holdings seeking review of a decision by the Media Bureau granting an application by Able Radio Corporation.
2 | MEDIA | TITLE: Puerto Rico Public Broadcasting Corporation, Application for a Permit to Construct a New Noncommercial Educational FM Station at Mayaguez, Puerto Rico.
|  | SUMMARY: The Commission will consider a Memorandum Opinion and Order concerning an Application for Review filed by Puerto Rico Public Broadcasting Corporation seeking review of a waiver request dismissal by the Media Bureau.
3 | MEDIA | TITLE: Chapin Enterprises, LLC, Application for a Construction Permit for a Minor Change to a Licensed Facility Applications for Minor Modification of a Construction Permit Station KVSS(FM), Papillion, Nebraska.
|  | SUMMARY: The Commission will consider a Memorandum Opinion and Order concerning an Application for Review filed by William B. Clay seeking review of a minor modification grant by the Media Bureau.
4 | MEDIA | TITLE: Galaxy Communications, L.P., Application for Modification of License Station WTKV(FM), Oswego, NY.
|  | SUMMARY: The Commission will consider a Memorandum Opinion and Order concerning an Application for Review filed by Galaxy Syracuse Licensee LLC seeking review of a waiver request denial by the Media Bureau.
5 | MEDIA | TITLE: Applications of Clear Creek Radio, Inc. for a New NCE(FM) Station, Idaho Springs, Colorado; Fraser Valley Community Media, Inc. for a New NCE(FM) Station, Winter Park, Colorado; RV Ministries, Inc. for a New NCE(FM) Station, Fraser, Colorado; The North Fork Angling Society for a New NCE(FM) Station, Pine, Colorado.
|  | SUMMARY: The Commission will consider a Memorandum Opinion and Order concerning a joint Application for Review filed by Clear Creek Radio, Inc., Fraser Valley Community Media, Inc., The North Fork Angling Society, and RV Ministries, Inc., seeking review of a waiver request denial by the Media Bureau.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live <http://www.fcc.gov/live>.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Gloria J. Miles,
Federal Register Liaison, Office of the Secretary, Office of Managing Director.

[FR Doc. 2014-09151 Filed 4-18-14; 11:15 am]

BILLING CODE 6712-01-P